DEPARTMENT OF THE INTERIOR

National Park Service

Golden Gate National Recreational Area and Point Reyes National Seashore Advisory Commission; Notice of Meeting Cancellation

Notice is hereby given in accordance with the Federal Advisory Committee Act that the meeting of the Golden Gate National Recreational Area and Point Reyes National Seashore Advisory Commission previously scheduled for Saturday, February 2, 2002 in Point Reyes Station, California will be cancelled.

The Advisory Commission was established by Public Law 92-589 to provide for the free exchange of ideas between the National Park Service and the public and to facilitate the solicitation of advice and other counsel from members of the public on problems pertinent to the National Park Service systems in Marin, San Francisco and San Mateo Counties. Members of the Commission are as follows:

Mr. Richard Bartke, Chairman

Ms. Susan Giacomini Allan

Mr. Michael Alexander

Ms. Lennie Roberts

Mr. Fred Rodriquez

Mr. Redmond Kernan

Mr. Gordon Bennett

Mr. John J. Spring

Mr. Doug Nadeau

Ms. Amy Meyer, Vice Chair

Mr. Douglas Siden

Mr. Dennis J. Rodoni

Ms. Yvonne Lee

Mr. Trent Orr

Ms. Betsey Cutler

Ms. Anna-Marie Booth

Dr. Edgar Wayburn

Mr. Paul Jones

Dated: January 11, 2002.
Don L. Neubacher,
Superintendent, Point Reyes National Seashore.

[FR Doc. 02-2307 Filed 1-30-02; 8:45 am]

BILLING CODE 4310-70-M